FEDERAL COMMUNICATIONS COMMISSION

[CC Docket No. 92-237; DA 17-1123]

Next Meeting of the North American Numbering Council

AGENCY: Federal Communications Commission.

ACTION: Notice.

SUMMARY: In this document, the Commission released a public notice announcing the meeting and agenda of the North American Numbering Council (NANC). The primary agenda of this meeting will be to introduce members of the Committees, set out initial assignments, and provide more information about the Working Groups. The NANC will also begin discussing how to modernize and foster more efficient number administration in the United States. The agenda may be modified at the discretion of the NANC Chair and the Designated Federal Officer (DFO). The NANC meeting is open to the public. The FCC will accommodate as many attendees as possible; however, admittance will be limited to seating availability. The Commission will also provide audio coverage of the meeting. Other reasonable accommodations for people with disabilities are available upon request. Request for such accommodations should be submitted via email to fcc504@fcc.gov or by calling the Consumer and governmental Affairs Bureau @(202) 418-0530 (voice) (202) 418-0432 (TTY). Such requests should include a detailed description of the accommodation needed. In addition, please allow at least five days advance notice for accommodation requests; last minute requests will be accepted but may not be possible to accommodate. Members of the public may submit comments to the NANC in the FCC's Electronic Comment Filing System, ECFS, at www.fcc.gov/ecfs. Comments to the NANC should be filed in CC Docket No. 92-237.

More information about the NANC is available at https://www.fcc.gov/about-fcc/advisory-committees/general/north-american-numbering-council.

DATES: Thursday, December 7, 2017, 9:30 a.m.

ADDRESSES: Requests to make an oral statement or provide written comments to the NANC should be sent to Carmell Weathers, Competition Policy Division, Wireline Competition Bureau, Federal Communications Commission, Portals II, 445 12th Street SW., Room 5-C162, Washington, DC 20554.

FOR FURTHER INFORMATION CONTACT: Marilyn Jones, NANC DFO, at marilyn.jones@fcc.gov, or (202) 418-2357, Michelle Sclater, Alternate DFO, at michelle.sclater@fcc.gov, or (202) 418-0388; or Carmell Weathers, Special Assistant to the DFO, at carmell.weathers@fcc.gov, or (202) 418-2325. The fax number is: (202) 418-1413. The TTY number is: (202) 418-0484.

SUPPLEMENTARY INFORMATION: This is a summary of the Commission's document in CC Docket No. 92-237, DA 17-1123 released November 20, 2017. The complete text in this document is available for public inspection and copying during normal business hours in the FCC Reference Information Center, Portals II, 445 12th Street SW., Room CY-A257, Washington, DC 20554. The document may also be purchased from the Commission's duplicating contractor, Best Copy and Printing, Inc., 445 12th Street SW., Room CY-B402, Washington, DC 20554, telephone (800) 378-3160 or (202) 863-2893, facsimile (202) 863-2898, or via the Internet at http://www.bcpiweb.com. It is available on the Commission's Web site at http://www.fcc.gov.

Federal Communications Commission.
Marilyn Jones,
Senior Counsel for Number Administration, Wireline Competition Bureau.

[FR Doc. 2017-25633 Filed 11-27-17; 8:45 am]

BILLING CODE 6712-01-P